DEPARTMENT OF COMMERCE

National Oceanic and Atmospheric Administration

RIN 0648-XG141

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an Exempted Fishing Permit Application from the Commercial Fisheries Research Foundation contains all the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before April 23, 2018.

ADDRESSES: You may submit written comments by any of the following methods:

• Email: NMFS.GAR.EFP@noaa.gov. Include in the subject line “Comments on CFRF Lobster EFP.”

• Mail: Michael Pentony, Regional Administrator, NMFS, Greater Atlantic Regional Fisheries Office, 55 Great Republic Drive, Gloucester, MA 01930. Mark the outside of the envelope “Comments on CFRF Lobster EFP.”

FOR FURTHER INFORMATION CONTACT: Laura Hansen, NOAA Affiliate, (978) 281-9225.

SUPPLEMENTARY INFORMATION: The Commercial Fisheries Research Foundation (CFRF) submitted a complete application for an Exempted Fishing Permit (EFP) on February 22, 2018, to conduct fishing activities that the regulations would otherwise restrict. The EFP would authorize four commercial fishing vessels to conduct a study using ventless traps to survey the abundance and distribution of juvenile American lobster and Jonah crab in Lobster Conservation Management Area (LCMA) 2. Overall, this EFP proposes to use a total of 144 ventless traps to survey the abundance and distribution of juvenile American lobster and Jonah crab in the Rhode Island/Massachusetts Wind Energy Area (RI/MA WEA); covering statistical areas 537 and 539. Maps depicting these areas are available on request.

This study is funded through the Bureau of Ocean Energy Management (Award #M13AC00009). The CFRF is requesting exemptions from the following Federal lobster regulations:

1. Gear specification requirements in 50 CFR 697.21(c) to allow for closed escape vents;

2. Trap limit requirements, as listed in § 697.19 (b), for LCMA 2, to be exceeded by 32 standard survey traps and 48 ventless traps per fishing vessel for a total of 80 additional traps;

3. Trap tag requirements, as specified in § 697.19(j), to allow for the use of untagged traps;

4. Possession restrictions in §§ 697.20(a), 697.20(d), and 697.20(g) to allow for temporary onboard biological sampling of sub-legal lobsters; and,

5. Possession limits and minimum fish size requirements specified in § 648, subsections B and D through O, for biological sampling purposes.

If the EFP is approved, this study would take place from May through November, 2018. Each participating vessel would have eight trawls with 10 traps per trawl, consisting of 6 ventless traps and 4 standard traps per trawl. Each vessel will deploy a trawl at eight stations twice a month. Gear will be deployed and retrieved after a five-day soak period. No more than 144 modified and 96 standard traps would be in the water at any time. Modifications to a standard lobster trap would include a closed escape vent, a smaller mesh size, and a smaller entrance head. Traps will be rigged on trawls that are compliant with the Atlantic Large Whale Take Reduction Plan. Each experimental trap will have the participating fisherman's identification attached.

Lobster and Jonah crab retrieved from the standard and modified traps would remain onboard for a short period of time to allow for sampling, after which they would be returned to the water. During sampling, biological information would be collected on all lobsters caught, including: Carapace length; sex; cull status; and presence of eggs, v-notches, and shell disease. Bycatch species would also be kept onboard for enumeration, weight collection, and measurement. All species captured in study traps will be returned promptly to the water after sampling. In conjunction with the ventless trap survey within the RI/MA WEA, the project will include a lobster tagging program to determine the seasonal movement patterns and habitat use by lobsters. Investigators anticipate tagging of 300 lobsters per month across the area. Outreach and incentive programs will be developed to encourage tag reporting. Permitted activities would begin on or after May 1, 2018, and continue through November 2018. No catch from this project will be landed for sale. All data collected will be made available to state and Federal management agencies to improve and enhance the available data for these two crustacean species.

If approved, the applicant may request minor modifications and extensions to the EFP throughout the year. We may grant EFP modifications and extensions may be granted without further notice if they are deemed essential to facilitate completion of the proposed research and have minimal impacts that do not change the scope or impact of the initially approved EFP request. The EFP would prohibit any fishing activity conducted outside the scope of the exempted fishing activities.

Authority: 16 U.S.C. 1801 et seq.

Dated: April 3, 2018.
Jennifer M. Wallace,
Acting Director, Office of Sustainable Fisheries, National Marine Fisheries Service.

[FR Doc. 2018-07088 Filed 4-5-18; 8:45 am]

BILLING CODE 3510-22-P